DEPARTMENT OF COMMERCE

International Trade Administration

[C-570-059]

Cold-Drawn Mechanical Tubing of Carbon and Alloy Steel From the People's Republic of China: Notice of Correction to Final Affirmative Countervailing Duty Determination, and Final Affirmative Determination of Critical Circumstances, in Part

AGENCY: Enforcement and Compliance, International Trade Administration, Department of Commerce.

FOR FURTHER INFORMATION CONTACT: Shanah Lee at (202) 482-6386 or Alex Rosen at (202) 482-7814, AD/CVD Operations, Office III, Enforcement and Compliance, International Trade Administration, U.S. Department of Commerce, 1401 Constitution Avenue NW, Washington, DC 20230.

SUPPLEMENTARY INFORMATION: On December 11, 2017, the Department of Commerce (Department) published the final affirmative countervailing duty determination on certain cold-drawn mechanical tubing of carbon and alloy steel (cold-drawn mechanical tubing) from the People's Republic of China (PRC).¹ The Final Determination inadvertently referred to a cross-owned affiliate of one of the mandatory respondents, Zhangjiagang Huacheng Import & Export Co., Ltd. (Huacheng I&E), as “Zhangjiagang Huacheng Industry Pipe Making Corporation.” The correct name for this cross-owned affiliate is “Jiangsu Huacheng Industry Pipe Making Corporation.” ² We are correcting this error.

¹ See Countervailing Duty Investigation of Cold-Drawn Mechanical Tubing of Carbon and Alloy Steel from the People's Republic of China: Final Affirmative Determination, and Final Affirmative Determination of Critical Circumstances, in Part, 82 FR 58175 (December 11, 2017) (Final Determination).

² See letter from Huacheng I&E, “Certain Cold-Drawn Mechanical Tubing of Carbon and Alloy Steel from People's Republic of China: Ministerial Error Comments,” dated December 12, 2017.

This correction to the Final Determination is issued and published in accordance with section 705(d) of the Tariff Act of 1930, as amended.

Dated: December 27, 2017.
Gary Taverman,
Deputy Assistance Secretary for Antidumping and Countervailing Duty Operations, performing the non-exclusive functions and duties of the Assistant Secretary for Enforcement and Compliance.

[FR Doc. 2017-28404 Filed 1-2-18; 8:45 am]

BILLING CODE 3510-DS-P